DEPARTMENT OF VETERANS AFFAIRS

[OMB Control No. 2900-New (VA Form 10-0478)]

Proposed Information Collection (Health-Care Use Survey for Enduring Freedom and Operation Iraqi Freedom (OEF/OIF) Veterans) Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed to measure the barriers of the care that can be used by researchers to study factors that influence Veterans' health-care behaviors.

DATES: Written comments and recommendations on the proposed collection of information should be received on or before January 4, 2010.

ADDRESSES: Submit written comments on the collection of information through the Federal Docket Management System (FDMS) at http://www.Regulations.gov; or to Mary Stout, Veterans Health Administration (193E1), Department of Veterans Affairs, 810 Vermont Avenue, NW., Washington, DC 20420 or e-mail: mary.stout@va.gov. Please refer to “OMB Control No. 2900-New (VA Form 10-0478)” in any correspondence. During the comment period, comments may be viewed online through FDMS.

FOR FURTHER INFORMATION CONTACT: Mary Stout at (202) 461-5867 or FAX (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Health-Care Use Survey for Enduring Freedom and Operation Iraqi Freedom (OEF/OIF) Veterans.

OMB Control Number: 2900-New (VA Form 10-0478).

Type of Review: New collection.

Abstract: The data collected will be used to better understand the factors that impact Operation Enduring Freedom (OEF) and Operation Iraqi Freedom (OIF) veterans' use of healthcare services, both within and outside of the VA.

The objective of the study is to: (1) Examine the stigma-related barriers to VA health care; (2) document unique barriers to VA care for women and men; and (3) provide reliable and valid measures of barriers to care that can be used by other researchers to study factors that influence veterans' health care behaviors.

Affected Public: Individuals or households.

Estimated Annual Burden: 1,058.

Estimated Average Burden Per Respondent: 45 minutes.

Frequency of Response: Annually.

Estimated Number of Respondents: 1,410.

Dated: October 29, 2009.
By direction of the Secretary:
Denise McLamb,
Program Analyst, Enterprise Records Service.

[FR Doc. E9-26463 Filed 11-3-09; 8:45 am]

BILLING CODE 8320-01-P